DEPARTMENT OF VETERANS AFFAIRS

Notice of Funding Availability (NOFA)

AGENCY: VA Homeless Providers Grant and Per Diem Program, Veterans Health Administration, Department of Veterans Affairs.

ACTION: Notice of Funding Availability (NOFA).

SUMMARY: The Department of Veterans Affairs (VA) is announcing the availability of 1-year funding for the 21 currently operational fiscal year (FY) 2015 VA Homeless Providers Grant and Per Diem (GPD) Special Need Grant Recipients and their collaborative VA Special Need partners (as applicable) to submit renewal applications for assistance under the Special Need Grant component of VA's Homeless Providers GPD Program. The focus of this NOFA is to encourage applicants to continue to deliver services to the homeless special need Veteran population. This NOFA contains information concerning the program, application process, and amount of funding available.

DATES: An original completed, signed, and dated application (plus three completed collated copies) for assistance under the VA's Homeless Providers GPD Program and associated documents must be received in the GPD Program Office by 4:00 p.m. Eastern Time on June 27, 2016 (see application requirements below).

Applications may not be sent by facsimile or email. In the interest of fairness to all competing applicants, this deadline is firm as to date and time, and VA will treat any application that is received after the deadline as ineligible for consideration. Applicants should make early submission of their material to avoid any risk of loss of eligibility as a result of unanticipated delays or other delivery-related problems.

ADDRESSES: An original completed, signed, and dated application (plus three completed collated copies) and all required associated documents must be submitted to the following address: VA Homeless Providers GPD Program Office, 10770 N. 46th Street, Suite C-200, Tampa, FL 33617. Applications must be received by the application deadline. Applications must arrive as a complete package to include VA collaborative materials (see application requirements). Materials arriving separately will not be included in the application package for consideration and may result in the application being rejected or not funded.

FOR FURTHER INFORMATION CONTACT: Mr. Jeffery L. Quarles, Director, VA Homeless Providers GPD Program, Department of Veterans Affairs, 10770 N. 46th Street, Suite C-200, Tampa, FL 33617; (toll-free) 1 (877) 332-0334.

SUPPLEMENTARY INFORMATION:

Funding Opportunity Description

This NOFA announces the availability of FY 2016 funds to provide 1-year funding assistance in FY 2017 under VA's Homeless Providers GPD Program for the 21 FY 2015 operational GPD Special need recipients and their collaborative VA Special Need partners (as applicable). Eligible applicants may obtain grant assistance to cover operational costs that would not otherwise be incurred but for the fact that the recipient is providing supportive housing beds and services for the following special needs homeless Veteran populations:

(1) Women;

(2) Frail elderly;

(3) Chronically mentally ill; or

(4) Individuals who have care of minor dependents.

Definitions of key terms relating to these populations are contained in 38 CFR 61.1 Definitions. Eligible applicants should review these definitions to ensure their proposed populations meet the specific requirements. Note: There are currently no existing grant projects for the terminally ill special needs population; therefore, grant projects that would support that population are not eligible for funding under this NOFA, and that population is not addressed in this NOFA.

VA is pleased to issue this NOFA for the Homeless Providers GPD Program as a part of the effort to end homelessness among our Nation's Veterans. Funding applied for under this NOFA may be used for the provision of service and operational costs to facilitate the following for each targeted group:

Women:

(1) Ensure transportation for women, especially for health care and educational needs; and

(2) Address safety and security issues including segregation from other program participants, if deemed appropriate.

Frail Elderly:

(1) Ensure the safety of the residents in the facility to include preventing harm and exploitation;

(2) Ensure opportunities to keep residents mentally and physically agile to the fullest extent through the incorporation of structured activities, physical activity, and plans for social engagement within the program and in the community;

(3) Provide opportunities for participants to address life transitional issues and separation and/or loss issues;

(4) Provide access to assistance devices such as walkers, grippers, or other devices necessary for optimal functioning;

(5) Ensure adequate supervision, including supervision of medication and monitoring of medication compliance; and

(6) Provide opportunities for participants either directly or through referral for other services particularly relevant for the frail elderly, including services or programs addressing emotional, social, spiritual, and generative needs.

Chronically Mentally Ill:

(1) Help participants join in and engage with the community;

(2) Facilitate reintegration with the community and provide services that may optimize reintegration such as life-skills education, recreational activities, and follow up case management;

(3) Ensure that participants have opportunities and services for re-establishing relationships with family;

(4) Ensure adequate supervision, including supervision of medication and monitoring of medication compliance; and

(5) Provide opportunities for participants, either directly or through referral, to obtain other services particularly relevant for a chronically mentally ill population, such as vocational development, benefits management, fiduciary or money management services, medication compliance, and medication education.

Individuals who have care of minor dependents:

(1) Ensure transportation for individuals who have care of minor dependents, and their children, especially for health care and educational needs;

(2) Provide directly or offer referrals for adequate and safe child care;

(3) Ensure children's health care needs are met, especially age-appropriate wellness visits and immunizations; and

(4) Address safety and security issues, including segregation from other program participants if deemed appropriate.

Authority: Funding applied for under this NOFA is authorized by 38 U.S.C. 2061. VA implements the Special Need Grant component of the VA Homeless Providers GPD Program 38 CFR part 61.

Award Information

Overview: This NOFA announces the availability of one year funding for use in FY 2017 for the 21 currently operational FY 2015 VA GPD Special Need Grant recipients and their collaborative VA Special Need partners (as applicable) to submit renewal applications for assistance under the Special Need Grant component of VA's Homeless Providers GPD Program.

Funding Priorities: None.

Allocation of Funds: Approximately $4.1 million is available for the current special need grant component of VA's Homeless Providers GPD Program. Funding will be for a period beginning on October 1, 2016, and ending on September 30, 2017.

Special need payment will be the lesser of:

1. 100 percent of the daily cost of care estimated by the special need recipient for furnishing services to homeless Veterans with special need that the special need recipient certifies to be correct, minus any other sources of income; or

2. Two times the current VA State Home Program per diem rate for domiciliary care.

Special need awards are subject to: Funds availability; the recipient meeting the performance goals as stated in the grant application; statutory and regulatory requirements; and annual inspections.

Applicants should ensure their funding requests and operational costs are based on the 12-month award period above and should be approximately in line with prior year expenditures. Requests cannot exceed the amount obligated under the FY 2015 award. Applicants should note unexpended funding from FY 2015 will be de-obligated.

Based on GPD funding availability, approximately $2.4 million is expected to be made available over the specified time (internally) for the current grantees and their collaborative VA Special Need partners (as applicable). The goal is, to the maximum extent possible, to ensure a continuation of special need services to homeless Veterans.

Funding Actions: Conditionally selected applicants may be asked to submit additional information under 38 CFR 61.15. Applicants will be notified of any further additional information needed to confirm or clarify information provided in the application.

Applicants will then be notified of the deadline to submit such information. If an applicant is unable to meet any conditions for grant award within the specified time frame, VA reserves the right to not award funds and to use the funds available for other special need applicants. Following receipt and confirmation that this information is accurate and in acceptable form, the applicant will execute an agreement with VA in accordance with 38 CFR 61.61.

Grant Award Period: Applicants that are selected will have a maximum award of one year beginning on October 1, 2016, and ending on September 30, 2017, to utilize the special need funding. Funds unexpended after the September 30, 2017, deadline will be de-obligated.

Funding Restrictions: Special need funding may not be used for capital improvements or to purchase vans or real property. However, the leasing of vans or real property may be acceptable. Changes to the special need population the applicant currently serves will not be allowed.

Questions regarding acceptability should be directed to VA's National GPD Program Office at the number listed in the “For Further Information Contact” section of this NOFA. Applicants may not receive special need funding to replace funds provided by any Federal, State or local government agency or program to assist homeless persons.

Eligibility Information: In order to be eligible, an applicant must be a current operational FY 2015 VA GPD Special Need Grant Recipient in conjunction with their collaborative VA Special Need partner, or a currently operational VA GPD Special Need Grant Recipient that does not involve a collaborative effort to make application for assistance under the Special need Grant Component of VA's Homeless Providers GPD Program. Applicants must serve the same special need population as in their previous grants. Note: If the applicant currently has a collaborative project and its collaborative VA Special Need partner no longer wishes to continue, the applicant will be ineligible for an award under this NOFA.

Cost Sharing or Matching: None.

Application Requirements and Submission Information: Applicants should be careful to complete the proper application package. Submission of the incorrect or incomplete application package including the information required from the collaborative VA Special Need partner (if applicable) must be submitted as one package. Failure to do so will result in the application being rejected at threshold. The package will consist of two parts. The first part will be the standard forms required for grants to include all required forms and certifications and will be provided by VA on the GPD Web site. The second part will be provided by applicants completing the items as listed below (see Application Requirements). Applicants who are conditionally selected will be notified of any additional information needed to confirm or clarify information provided in the application. Applicants will then be notified of the deadline to submit such information. If an applicant is unable to meet any conditions for grant award within the specified time frame, VA reserves the right to not award funds and to use the funds available for other grant and per diem applicants.

Address To Obtain Standard Grant Forms for Application Package: Download the standard grant forms directly from VA's GPD Program Web page at: http://www.va.gov/HOMELESS/GPD.asp. Questions should be referred to the VA GPD Program at (toll-free) 1 (877) 332-0334.

Content and Form of Application: An application package is needed for each special need population the applicant is seeking to provide services to under this NOFA. Applicants should ensure that they include all required documents in their application including the information required from the VA collaborative Special Need partner (if applicable) and carefully follow the format described below. Submission of an incorrect, incomplete, or incorrectly formatted application package will result in the application being rejected at threshold. Applicants should ensure that the items listed in the “Application Requirements” section of this NOFA are addressed in their application. Applicants should ensure the application is compiled in the order outlined below and sections labeled accordingly.

Applicants are to complete the application in a normal business format on not more than 40 double-spaced, typed, single sided pages in Arial 12 font. Note: The resumes or letters of support do not have to be double spaced and will not count toward the page maximum. Applicants must include or address the following within the application:

I. Application Documentation Required:

Standard Forms:

SF 424 Application for Federal Assistance

SF 424A Budget Information—Non-Construction Programs

SF 424B Assurances—Non-Construction Programs

1. Eligibility to receive VA Assistance:

Nonprofit Organizations must provide documentation of accounting system certification and evidence of private nonprofit status. This must be accomplished by the following:

(a) Providing documentation showing the applicant is a certified United Way Member Agency; or

(b) Providing certification on letterhead stationery from a Certified Public Accountant or Public Accountant that the organization has a functioning accounting system that is operated in accordance with generally accepted accounting principles, or that the organization has designated a qualified entity to maintain a functioning accounting system. If such an entity is used, then their name and address must be included in the certification letter; and

(c) Providing evidence of their status as a nonprofit organization by submitting a copy of their IRS ruling providing tax-exempt status under the IRS Code of 1986, as amended; and

(d) On your agency's letterhead, copying the following reasonable assurances below the statement “The applicant certifies that the following are true:” and signing and dating the document at the bottom:

i. The existing grant project of the applicant is being, and will continue to be, used principally to furnish Veterans the level of care for which VA awarded the applicant the original grant under the VA's Homeless Providers GPD Program; that not more than 25 percent of participants at any one time will be non-Veterans; and that such services will meet the requirements of 38 CFR 61.1-61.82;

ii. The applicant will keep records and submit reports as VA may reasonably require, within the time frames required; and give VA, upon demand, access to the records upon which such information is based;

iii. The applicant agrees to comply with the applicable requirements of 38 CFR part 61 and other applicable laws and has demonstrated the capacity to do so;

iv. The applicant does not have an outstanding obligation to VA that is in arrears, and does not have an overdue or unsatisfactory response to an audit; and

v. The applicant is not in default, by failing to meet requirements for any previous assistance from VA.

(e) Information from VA collaborative Special Need partner (if applicable): If the FY 2015 special need grant was a collaborative grant, the FY 2016 application must include a letter of commitment or a Memorandum of Agreement from the VA collaborative Special Need partner, stating the VA point of contact, the VA staffing plan, plan budget and what specific service(s) the VA is providing to the special need population. Note: If the applicant currently has a collaborative project and its VA partner no longer wishes to continue then the applicant will be ineligible for application under this NOFA.

State/Local Government Applicants: Applicants who are State or local governments must provide a copy of any comments or recommendations by approved State and (area wide) clearinghouses pursuant to Executive Order 12372.

2. Project Summary:

On your agency's letterhead provide the following:

(a) The GPD Operational project number to which this special needs application will be tied _________.

(b) Our agency requests $___________(may not exceed 2015 award) to provide housing and services to homeless Veteran special need populations.

(c) Selection of special need population: Indicate the special need population to be served on your agency letterhead using the statements below: i.e.,

i. Our organization will dedicate ______beds to Women.

ii. Our organization will dedicate ______beds to the minor dependents in the care of homeless Veteran individuals.

iii. Our organization will dedicate ______beds to the Frail Elderly.

iv. Our organization will dedicate ______beds to the Chronically Mentally Ill.

(d) Total number of beds dedicated to the special need populations is _________.

3. Project Narrative: Please provide a brief abstract of the project to include: The project design, current supportive services committed to the project, types of special need assistance provided, and any special program provisions. Keep in mind that if selected for funding, cost accounting according to the Office of Management and Budget Grant Management Circulars is required. The activities listed above are not inclusive of all of the items of cost in the circulars nor does their presence below constitute that they are fully allowable under the circulars' guidance. Refer to the proper circular to determine if a cost is allowable.

4. Detailed Project Plan: This is the portion of the application that describes your program. VA Reviewers will focus on how the project plan addresses the areas as listed below in relation to your selected special need population. Please describe in detail how your agency will identify and serve your special need population by responding to the following questions:

(a) Outreach—describe your agency outreach plan and frequency for your selected special need Veteran population living in places not ordinarily meant for human habitation (e.g. streets, parks abandon buildings, automobiles) and emergency shelters.

(b) Outreach—please identify where your organization will target its outreach efforts to identify appropriate special need Veterans for this program.

(c) Project Plan—VA places emphasis on lowing barriers to admissions; describe the specific process and admission criteria for deciding which Veterans are appropriate for admission.

(d) Project Plan—what is the expected percentage of Veterans that will successfully transition to permanent housing?

(e) Project Plan—How, when, and by whom will the progress of participants toward meeting their individual goals will be monitored, evaluated and documented.

(f) Project Plan—Describe the role Veteran participants will have in operating and maintaining the housing.

(g) Project Plan—Describe your agency's responsibilities, as well as, any sponsors, contractors' responsibilities in operating and maintaining the housing.

(h) Project Plan—Describe program policies regarding a clean and sober environment.

(i) Project Plan—Describe program polices regarding participant agreements and fees.

(j) Project Plan—Specifically list the supportive services, frequency of occurrence, who will provide them and how they will help Veteran participants achieve residential stability, increase skill levels and or income, and how they will increase Veterans self-determination (i.e., case management, frequency of individual/groups, employment services). Include measurable objectives that you will use to determine the success of the program in these three areas.

(k) Project Plan—what is the percentage of Veterans served that will be employed or receiving benefits at the conclusion of the transitional housing?

(l) Project Plan—Address how your agency will facilitate the provision of nutritional meals for the Veterans. Be sure to describe how Veterans with little or no income will be assisted.

(m) Project Plan—VA places great emphasis on placing Veterans in the most appropriate housing situation as rapidly as possible. In this section, provide a timetable and the specific services to include follow-up that supports housing stabilization. Include evidence of coordination of transition services with which your agency expects to have for Veterans.

(n) Project Plan—Describe the availability of or how you will facilitate transportation of the Veteran participants with and without income to appointments, employment, and supportive services.

(o) Ability—Provide a one page resume and/or job description for key personnel and a staffing plan that outlines how your organization will carry out this proposal; to include experience level, dedication of staff position, and the amount of time dedicated to the project. (i.e., a full-time housing specialist, masters level, 20 hours per week).

(p) Ability—Describe your agency's previous experience assessing and providing for the housing needs of homeless Veterans.

(q) Ability—Describe your agency's previous experience assessing and providing supportive services to homeless Veterans.

(r) Ability—Describe your agency's previous experience in assessing supportive service resources and entitlement benefits.

(s) Ability—Describe your agency's previous experience with evaluating the progress of both individual participants and overall program effectiveness through using quality and performance data to make changes. Provide documentation of meeting past performance goals.

(t) Need—Describe through the use of a gap analysis the substantial unmet needs particularly among your targeted Veteran population and those needs of the general homeless population. How does this project meet a need for the community and fit with the community's strategy to end homeless in the community. Support your descriptions with empirical statistical documentation of need.

(u) Coordination—Provide documented evidence your agency is part of an ongoing community-wide planning process which is designed to share information on available resources and reduce duplication among programs that serve special need homeless Veterans (i.e. letter of support from your local continuum of care)

(v) Coordination—Provide documented evidence your agency consulted directly with the closest VA Medical Center Director regarding coordination of services for project participants; and your plan to assure access to health care, case management, and other care services.

(w) Site Description— briefly describe the site where housing and services will take place and provide the current complete address to include the zip code for the housing.

Other Submission Requirements: None.

Submission Dates and Times: An original signed, dated, completed, and application (plus three completed collated copies) and all required associated documents must be received in the GPD Program Office, VA Homeless Providers GPD Program Office, 10770 N. 46th Street, Suite C-200, Tampa, FL, 33617; by 4:00 p.m. Eastern Standard Time on June 27, 2016.

Applications must be received by the application deadline. Applications must arrive as a complete package to include VA collaborative partner materials (see application requirements). Materials arriving separately will not be included in the application package for consideration and may result in the application being rejected or not funded.

In the interest of fairness to all competing applicants, this deadline is firm as to date and hour, and VA will treat any application that is received after the deadline as ineligible for consideration. Applicants should take this firm deadline into account and make early submission of their material to avoid any risk of loss of eligibility as a result of unanticipated delays or other delivery-related problems. For applications physically delivered (e.g., in person, or via United States Postal Service, FedEx, United Parcel Service, or any other type of courier), the VA GPD Program Office staff will accept the application and date stamp it immediately at the time of arrival. This is the date and time that will determine if the deadline is met for those types of delivery.

DO NOT fax or email the application as applications received via these means will be ineligible for consideration.

Application Review Information:

A. Criteria for Special Need Grants: Rating criteria may be found at 38 CFR 61.13 & 61.32.

B. Review and Selection Process: Review and selection process may be found at 38 CFR 61.44.

Award Notice: Although subject to change, the VA Homeless Providers GPD Program Office expect the announcement of grant awards during the late fourth quarter of FY 2016 (September). The initial announcement will be made via news release which will be posted on the GPD Web site at www.va.gov/homeless/gpd.asp. Following the initial announcement, the VA Homeless Providers GPD Program Office will mail a notification letter to the grant recipients. Applicants that are not selected will be mailed a declination letter within 2 weeks of the initial announcement.

Administrative and National Policy: It is important to be aware that VA places great emphasis on responsibility and accountability. VA has procedures in place to monitor services provided to homeless Veterans and outcomes associated with the services provided in grant and per diem-funded programs. Applicants should be aware of the following:

Awardees will be required to support their request for payments with adequate fiscal documentation as to project expenses and in the case of per diem payments income and expenses.

All awardees that are selected in response to this NOFA must meet the requirements of the current edition of the Life Safety Code of the National Fire Protection Association as it relates to their specific facility. Applicants should note that all facilities are to be protected throughout by an approved automatic sprinkler system unless a facility is specifically exempted under the Life Safety Code. Applicants should make consideration of this when submitting their grant applications as no additional funds will be made available for capital improvements under this NOFA.

Each program seeking per diem will have a liaison appointed from a nearby VA medical facility to provide oversight and monitor services provided to homeless Veterans in the per diem-funded program.

Monitoring will include at a minimum a quarterly review of each per diem program's progress toward meeting internal goals and objectives in helping Veterans attain housing stability, adequate income support, and self-sufficiency as identified in each per diem program's original application. Monitoring will also include a review of the agency's income and expenses as they relate to this project to ensure per diem payment is accurate.

Each per diem-funded program will participate in VA's national program monitoring and evaluation system. Monitoring procedures will be used to determine successful accomplishment of outcomes for each per diem-funded program.

Applicants with questions regarding the funding from previous special need awards should contact the VA Homeless Providers GPD Program Office prior to application.

A full copy of the regulations governing the VA Homeless Providers GPD Program is available at http://www.va.gov/HOMELESS/GPD.asp.

Signing Authority

The Secretary of Veterans Affairs, or designee, approved this document and authorized the undersigned to sign and submit the document to the Office of the Federal Register for publication electronically as an official document of the Department of Veterans Affairs. Robert A. McDonald, Secretary of Veterans Affairs, approved this document on May 13, 2016, for publication.

Approved: May 16, 2016.
Michael Shores,
Acting Director, Office of Regulation Policy and Management, Office of the Secretary, Department of Veterans Affairs.

[FR Doc. 2016-11849 Filed 5-19-16; 8:45 am]

BILLING CODE 8320-01-P